FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 17096NF.

Name: Aero Costa International, Inc.

Address: 460 E. Carson Plaza Drive, Suite 220, Carson, CA 90746.

Date Revoked: December 25, 2002.

Reason: Failed to maintain valid bonds.

License Number: 17467NF.

Name: Baska Logistics & Trading, Inc.

Address: 7105 NW. 53rd Terrace, Miami, FL 33166.

Date Revoked: December 19, 2002.

Reason: Failed to maintain valid bonds.

License Number: 11289N.

Name: Cargo Marketing Services Limited dba Procon Express Lines.

Address: The Old Bakery, One Shaw Lane, Lichfield, Staffordshire, WS1 7AG, United Kingdom.

Date Revoked: December 8, 2002.

Reason: Failed to maintain a valid bond.

License Number: 3508N.

Name: E & B International, Inc.

Address: 5353 E. Princess Anne Road, Suite A, Norfolk, VA 23502.

Date Revoked: December 19, 2002.

Reason: Failed to maintain a valid bond.

License Number: 16982NF.

Name: GKN Freight Services, Inc.

Address: 209 S. Washington Street, Van Wert, OH 45891.

Date Revoked: December 27, 2002.

Reason: Failed to maintain valid bonds.

License Number: 3314F.

Name: Hol-Mar International, Inc.

Address: 11600 Jones Road, Suite 108-21, Houston, TX 77070.

Date Revoked: December 12, 2002.

Reason: Failed to maintain a valid bond.

License Number: 17310N.

Name: J.M.C. Transport Corporation.

Address: 9133 South La Cienega Blvd., Suite 120, Inglewood, CA 90301.

Date Revoked: December 8, 2002.

Reason: Failed to maintain a valid bond.

License Number: 1517F.

Name: Lanier Shipping Company, Inc.

Address: 60 West Main Street, Bogota, NJ 07603.

Date Revoked: December 27, 2002.

Reason: Failed to maintain a valid bond.

License Number: 15439N.

Name: Legend International Express Inc.

Address: 147-34 176th Street, Jamaica, NY 11434.

Date Revoked: November 29, 2002.

Reason: Failed to maintain a valid bond.

License Number: 16126N.

Name: Motorvation Services Inc.

Address: P.O. Box 348, 100 Broad Street, Tonawanda, NY 14151.

Date Revoked: December 8, 2002.

Reason: Failed to maintain a valid bond.

License Number: 15989N.

Name: Noram Agencies, Ltd.

Address: 2928 Terminal Avenue, Everett, WA 98201.

Date Revoked: February 11, 2002.

Reason: Failed to maintain a valid bond.

License Number: 15295N.

Name: Overseas Container Services, Inc. dba OCS.

Address: 256 Commercial Blvd., Lauderdale by the Sea, FL 33308.

Date Revoked: December 20, 2002.

Reason: Failed to maintain a valid bond.

License Number: 1007F.

Name: R.J. McCracken & Son, Inc.

Address: 5345 44th Street, SE., Grand Rapids, MI 49512.

Date Revoked: December 25, 2002.

Reason: Failed to maintain a valid bond.

License Number: 17322N.

Name: Trans State Logistics, Inc.

Address: 1011 South Fremont Avenue, Suite 203, Alhambra, CA 91803.

Date Revoked: December 8, 2002.

Reason: Failed to maintain a valid bond.

Sandra L. Kusumoto,
Director, Bureau of Consumer Complaints and Licensing.

[FR Doc. 03-1491 Filed 1-22-03; 8:45 am]

BILLING CODE 6730-01-P